COMMISSION OF FINE ARTS

Notice of Meeting

The next meeting of the Commission of Fine Arts is scheduled for 20 September 2001 at the National Building Museum, Suite 312, Judiciary Square, 441 F Street, NW., Washington, DC 20001-2728. Items of discussion affecting the appearance of Washington, DC, may include buildings, parks and memorials.

Please note that the design for an addition to the Corcoran Gallery is the first item on the agenda to be presented at 10 am in the first floor auditorium of the National Building Museum. The remainder of the agenda will be reviewed in the Commission's conference room, Suite 312.

Draft agendas are available to the public one week prior to the meeting. Inquiries regarding the agenda and requests to submit written or oral statements should be addressed to Charles H. Atherton, Secretary, Commission of Fine Arts, at the above address or call 202-504-2200. Individuals requiring sign language interpretation for the hearing impaired should contact the Secretary at least 10 days before the meeting date.

Dated in Washington, DC, 24 August 2001.
Charles H. Atherton,
Secretary.

[FR Doc. 01-21941 Filed 8-29-01; 8:45 am]

BILLING CODE 6330-01-M